GULF COAST ECOSYSTEM RESTORATION COUNCIL

[Docket No.: 111132024-1111-05]

Senior Executive Service Performance Review Board Membership

AGENCY: Gulf Coast Ecosystem Restoration Council (GCERC).

ACTION: Notice of Performance Review Board (PRB) appointments.

SUMMARY: This notice announces the members of the Senior Executive Service (SES) Performance Review Board. The PRB is comprised of a Chairperson and a mix of state representatives and career senior executives that meet annually to review and evaluate performance appraisal documents and provide a written recommendation to the Chairperson of the Council for final approval of each executive's performance rating, performance-based pay adjustment, and performance award.

DATES: The board membership is applicable beginning on January 1, 2024 and ending on December 31, 2024.

FOR FURTHER INFORMATION CONTACT: Mary S. Walker, Executive Director, Gulf Coast Ecosystem Restoration Council, telephone 504-210-9982.

SUPPLEMENTARY INFORMATION: In accordance with 5 U.S.C. 4314(c)(4), the persons named below have been selected to serve on the PRB:

Gulf Coast Ecosystem Restoration Council

Walker, Mary S., Executive Director, Mary.Walker@restorethegulf.gov, 504-210-9982

Department of Interior

Blanchard, Mary Josie, Deputy Director, Environmental Protection Compliance, MaryJosie_Blanchard@ios.doi.gov, 202-208-3406

State of Florida

Blalock, Adam, Deputy Secretary for Ecosystem Restoration, Adam.Blalock@floridadep.gov, 850-245-2118

State of Alabama

Blankenship, Chris, Commissioner, Alabama Department of Conservation and Natural Resources, Chris.blankenship@dcnr.alabama.gov, 334-242-3486

Environmental Protection Agency

Wyatt, Marc, Director, Gulf of Mexico Division, Wyatt.marc@epa.gov, 228-679-5915

Keala J. Hughes,
Director of External Affairs & Tribal Relations, Gulf Coast Ecosystem Restoration Council.

[FR Doc. 2024-26818 Filed 11-15-24; 8:45 am]

BILLING CODE 6560-58-P